DEPARTMENT OF HEALTH AND HUMAN SERVICES

Administration for Children and Families

Proposed Information Collection Activity; Comment Request

Title: Multi-site Implementation Evaluation of Tribal Home Visiting (MUSE).

OMB No.: New Collection.

Description: The Administration for Children and Families (ACF) within the U.S. Department of Health and Human Services has launched a national multi-site evaluation of Tribal Maternal, Infant, and Early Childhood Home Visiting (TMIECHV) programs. MUSE is the first multi-site, multi-model study that will systematically explore how home visiting programs are operating across diverse tribal contexts and identify factors that lead to programs' success. The evaluation will provide information that will help the federal government design and support federal home visiting initiatives in tribal communities and similar populations. Evaluation findings will also assist programs with improving home visiting services for children and families. The aims of MUSE are to (1) identify and describe the primary influences shaping tribal home visiting program planning; (2) identify and describe how home visiting programs are being implemented; and (3) explore supports to home visiting implementation in tribal communities. To address these aims, the evaluation will gather data about participating home visiting programs from program staff and parent program participants and utilize administrative program data.

The current Notice is specific to data collection efforts needed to address the MUSE aims. Quantitative and qualitative data will be collected from program staff and parent program participants at each program site. Program sites will also submit local administrative data to the evaluation team. After obtaining informed consent from all respondents, data collection will include: (1) A survey of parent program participants at enrollment (baseline), (2) a follow-up survey of parent program participants at 6 and 12 months, (3) the MUSE Family Resources Check-in administered to parent program participants at baseline and 12 months (4) a Rapid Reflect self-completed questionnaire completed by parent program participants after selected home visits; (5) a Rapid Reflect self-completed questionnaire completed by home visitors after selected home visits; (6) a one-time survey of home visitors; (7) a one-time survey of program coordinators/managers; (8) a one-time survey of program directors; (9) a one-time survey of local program evaluators; (10) qualitative interviews of home visitors at each site; (11) qualitative interviews of program coordinators/managers and program directors at each site; (12) qualitative interviews of local program evaluators at each site; (13) qualitative interviews of program participants; (14) a log of implementation activities completed by program coordinators/managers on staffing, training, family group activities, and supervision; and (15) electronic compilation and submission of administrative program data.

All data collection will be used to generate information about how tribal home visiting program services are planned and delivered, and about what individual, organizational, community, and external factors support successful program implementation.

Respondents: Parent participants enrolled in TMIECHV programs and TMIECHV program staff (program directors, program coordinators/managers, home visitors, and local program evaluators).

Annual Burden Estimates

We will request approval for three years, which will accommodate an approximate two-year data collection period and any potential delays in the data collection timeline.

Instrument | Total number of respondents | Annual number of respondents | Number of responses per respondent | Average burden hours per response | Annual burden hours
Participant Survey—Baseline | 423 | 141 | 1 | .25 | 35
Participant Survey—6 & 12 Month Follow-up | 312 | 104 | 2 | .50 | 104
Family Resources Check-in—Baseline and 12 Month Follow-up | 354 | 118 | 2 | .25 | 59
Rapid Reflect Self-Completed Home Visit Questionnaire for Participants | 1,394 | ¹ 697 | 12 | .08 | 669
Rapid Reflect Self Completed Home Visit Questionnaire for Home Visitors | 93 | ¹ 47 | 180 | .2 | 1,692
Home Visitor Survey | 81 | 27 | 1 | 1.17 | 32
Program Coordinator/Manager Survey | 21 | 7 | 1 | 1 | 7
Program Director Survey | 21 | 7 | 1 | 1 | 7
Local Program Evaluator Survey | 30 | 10 | 1 | .5 | 5
Qualitative Interviews of Home Visitors | 42 | 14 | 1 | 2 | 28
Qualitative Interviews of Program Coordinators/Managers and Program Directors | 34 | 11 | 1 | 1.5 | 17
Qualitative Interviews of Local Program Evaluators | 30 | 10 | 1 | 1.5 | 15
Qualitative Interviews of Program Participants | 51 | 17 | 1 | 1 | 17
Implementation Logs | 17 | ¹ 9 | 24 | .67 | 145
Administrative Program Data | 17 | ¹ 9 | 4 | 45 | 1,620
¹ The annual number of respondents is annualized over 2 years for instruments that are completed by respondents on an ongoing basis.

Estimated Total Annual Burden Hours: 4,452.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2018-04039 Filed 2-27-18; 8:45 am]

BILLING CODE 4184-74-P